DEPARTMENT OF THE INTERIOR

National Park Service

[NPS-WASO-NAGPRA-18043; PPWOCRADN0-PCU00RP14.R50000]

Notice of Inventory Completion: Thomas Burke Memorial Washington State Museum, University of Washington, Seattle, WA

AGENCY: National Park Service, Interior.

ACTION: Notice.

SUMMARY: The Thomas Burke Memorial Washington State Museum, University of Washington (Burke Museum), has completed an inventory of human remains and associated funerary object, in consultation with the appropriate Indian tribes or Native Hawaiian organizations, and has determined that there is no cultural affiliation between the human remains and associated funerary object and any present-day Indian tribes or Native Hawaiian organizations. Representatives of any Indian tribe or Native Hawaiian organization not identified in this notice that wish to request transfer of control of these human remains and associated funerary object should submit a written request to the Burke Museum. If no additional requestors come forward, transfer of control of the human remains and associated funerary object to the Indian tribes or Native Hawaiian organizations stated in this notice may proceed.

DATES: Representatives of any Indian tribe or Native Hawaiian organization not identified in this notice that wish to request transfer of control of these human remains and associated funerary object should submit a written request with information in support of the request to the Burke Museum at the address in this notice by May 28, 2015.

ADDRESSES: Peter Lape, Burke Museum, University of Washington, Box 353010, Seattle, WA 98195, telephone (206) 685-3849, email plape@uw.edu.

SUPPLEMENTARY INFORMATION: Notice is here given in accordance with the Native American Graves Protection and Repatriation Act (NAGPRA), 25 U.S.C. 3003, of the completion of an inventory of human remains and associated funerary object under the control of the Burke Museum, Seattle, WA. The human remains and associated funerary object were removed from Douglas County, WA.

This notice is published as part of the National Park Service's administrative responsibilities under NAGPRA, 25 U.S.C. 3003(d)(3) and 43 CFR 10.11(d). The determinations in this notice are the sole responsibility of the museum, institution, or Federal agency that has control of the Native American human remains and associated funerary objects. The National Park Service is not responsible for the determinations in this notice.

Consultation

A detailed assessment of the human remains was made by the Burke Museum professional staff in consultation with representatives of the Confederated Tribes and Bands of the Yakama Nation, the Confederated Tribes of the Colville Reservation, and the Wanapum Band of Priest Rapids, a non-federally recognized Indian group.

History and Description of the Remains

At an unknown date, human remains representing, at minimum, one individual were believed to have been removed from Douglas County, WA. In 1995, the human remains were found in the collection with little or no provenience information. A search of accession records and archival documents produced no matches to known human remains collected from Douglas County. These human remains are fragmentary and heavily weathered; they may have been collected from the surface. Douglas County has many sites along the Columbia River in which human remains have been found eroding out from sites. No known individuals were identified. The one associated funerary object is a deer bone.

Determinations Made by the Burke Museum

Officials of the Burke Museum have determined that:

• Pursuant to 25 U.S.C. 3001(9), the human remains described in this notice are Native American based on osteological evidence and museum collecting and accessioning history.

• Pursuant to 25 U.S.C. 3001(9), the human remains described in this notice represent the physical remains of one individual of Native American ancestry.

• Pursuant to 25 U.S.C. 3001(3)(A), the one object described in this notice is reasonably believed to have been placed with or near individual human remains at the time of death or later as part of the death rite or ceremony.

• Pursuant to 25 U.S.C. 3001(2), a relationship of shared group identity cannot be reasonably traced between the Native American human remains and associated funerary object and any present-day Indian tribe.

• According to final judgments of the Indian Claims Commission, the land from which the Native American human remains and associated funerary object were removed is the aboriginal land of the Sanpoil-Nespelem and Okanogan who are represented by the Confederated Tribes of the Colville Reservation, and by the Yakama who are represented by the Confederated Tribes and Bands of the Yakama Nation.

• Treaties, Acts of Congress, and Executive Orders, indicate that the land from which the Native American human remains and associated funerary object were removed is the aboriginal land of the Confederated Tribes and Bands of the Yakama Nation and the Confederated Tribes of the Colville Reservation.

• Other authoritative governmental sources indicate that the land from which the Native American human remains and associated funerary object were removed is the aboriginal land of the Confederated Tribes and Bands of the Yakama Nation, the Confederated Tribes of the Colville Reservation, and the Wanapum Band, a non-federally recognized Indian group.

• Pursuant to 43 CFR 10.11(c)(1), the disposition of the human remains and associated funerary object may be to the Confederated Tribes and Bands of the Yakama Nation, the Confederated Tribes of the Colville Reservation, and the Wanapum Band, a non-federally recognized Indian group (if joined to one or more of the tribes).

Additional Requestors and Disposition

Representatives of any Indian tribe or Native Hawaiian organization not identified in this notice that wish to request transfer of control of these human remains and associated funerary object should submit a written request with information in support of the request to Peter Lape, Burke Museum, University of Washington, Box 353010, Seattle, WA 98195, telephone (206) 685-3849 x2, email plape@uw.edu, by May 28, 2015. After that date, if no additional requestors have come forward, transfer of control of the human remains and associated funerary object to the Confederated Tribes and Bands of the Yakama Nation, the Confederated Tribes of the Colville Reservation, and the Wanapum Band, a non-federally recognized Indian group (if joined to one or more of the tribes) may proceed.

The Burke Museum is responsible for notifying the Confederated Tribes and Bands of the Yakama Nation, the Confederated Tribes of the Colville Reservation, and the Wanapum Band, a non-federally recognized Indian group, that this notice has been published.

Dated: April 2, 2015.
Mariah Soriano,
Acting Manager, National NAGPRA Program.

[FR Doc. 2015-09865 Filed 4-27-15; 8:45 am]

BILLING CODE 4312-50-P